DEPARTMENT OF TRANSPORTATION

Federal Aviation Administration

14 CFR Part 71

[Docket No. FAA-2017-0461; Airspace Docket No. 17-AEA-5]

RIN 2120-AA66

Proposed Amendment of VOR Federal Airways V-16, V-31, V-93, V-157, V-213, and V-229 in the Vicinity of Patuxent River, MD

AGENCY: Federal Aviation Administration (FAA) DOT.

ACTION: Notice of proposed rulemaking (NPRM); withdrawal.

SUMMARY: The FAA is withdrawing the NPRM published in the Federal Register on July 12, 2017, proposing to amend VHF Omnidirectional Range (VOR) Federal airways V-16, V-31, V-93, V-157, V-213, and V-229 near Patuxent River, MD, due to the planned decommissioning of the Patuxent VOR/Tactical Air Navigation (VORTAC) (PXT), Patuxent River, MD, in support of the FAA's VOR Minimum Operational Network (MON) program. Subsequent to the NPRM, the PXT VORTAC decommissioning has been delayed until a to-be-determined date. The FAA decided that additional planning is necessary to ensure a more efficient implementation and integration with other ongoing VOR MON program activities, and determined that withdrawal of the proposed rule is warranted.

DATES: Effective September 17, 2021, the proposed rule published July 12, 2017 (82 FR 32149), is withdrawn.

FOR FURTHER INFORMATION CONTACT: Paul Gallant, Rules and Regulations Group, Office of Policy, Federal Aviation Administration, 800 Independence Avenue SW, Washington, DC 20591; telephone: (202) 267-8783.

SUPPLEMENTARY INFORMATION:

History

The FAA published a notice of proposed rulemaking in the Federal Register for Docket No. FAA-2017-0461 (82 FR 32149; July 12, 2017), amending VOR Federal airways V-16, V-31, V-93, V-157, V-213, and V-229 due to the planned decommissioning of the Patuxent VORTAC which provides navigation guidance for portions of the affected airways. Interested parties were invited to participate in this rulemaking effort by submitting written comments on the proposal. One comment was received. The commenter recommended that for VOR NAVAIDs that are to be decommissioned, and for those airways that are correspondingly removed, the FAA should create an Area Navigation (RNAV) waypoint at the previous NAVAID location, and convert all fixes and intersections along that route to RNAV waypoints.

FAA's Conclusions

The FAA has reviewed the Patuxent VORTAC decommissioning project and determined that additional planning meetings are warranted to ensure a more efficient implementation and integration with other ongoing program activities; therefore, the NPRM is withdrawn.

List of Subjects in 14 CFR Part 71

Airspace, Incorporation by reference, Navigation (air).

The Withdrawal

Accordingly, pursuant to the authority delegated to me, the NPRM published in the Federal Register on July 12, 2017 (82 FR 32149), FR Doc. 2017-14524, is hereby withdrawn.

Authority: 49 U.S.C. 106(f), 106(g), 40103, 40113, 40120; E.O. 10854; 24 FR 9565, 3 CFR, 1959-1963 Comp., p. 389.

Issued in Washington, DC, on September 13, 2021.
George Gonzalez,
Acting Manager, Rules and Regulations Group.

[FR Doc. 2021-20010 Filed 9-16-21; 8:45 am]

BILLING CODE 4910-13-P